NUCLEAR REGULATORY COMMISSION

10 CFR Parts 40, 70, 72, 74, and 150

[NRC-2009-0096 and NRC-2013-0195]

RIN 3150-AI61

Amendments to Material Control and Accounting Regulations and Proposed Guidance for Fuel Cycle Facility Material Control

AGENCY: Nuclear Regulatory Commission.

ACTION: Notice of second public meeting on proposed rule and proposed guidance.

SUMMARY: The Nuclear Regulatory Commission (NRC) plans to hold a second public meeting on its proposed rule to amend its regulations for material control and accounting (MC&A) of special nuclear material (SNM) and the associated proposed guidance documents. This will be a continuation of the first public meeting that was held on January 9, 2014. The second public meeting will provide an additional opportunity for interested parties to improve their understanding of the NRC's proposed rule to revise and consolidate the NRC regulations for MC&A of special nuclear material (SNM) and the guidance. The public comment period for the proposed rule and the proposed guidance was previously extended in response to a request by stakeholders, and closes on March 10, 2014.

DATES: The second public meeting will be held on February 5, 2014, from 10 a.m. to 5 p.m. (Eastern Standard Time (EST)).

ADDRESSES: The public meeting will be held at the NRC's headquarters, Room 3WFN-1C05, Three White Flint North, 11601 Landsdown Street, North Bethesda, MD 20852. Members of the public may also participate in the meeting via teleconference or Webinar. Information for the teleconference and Webinar is available in the meeting notice, which can be accessed through the NRC's public Web site at: http://meetings.nrc.gov/pmns/mtg.

Please refer to Docket ID NRC-2009-0096 when contacting the NRC about the availability of information for the proposed rule, and refer to Docket ID: NRC-2013-0195 when contacting the NRC about the availability of information for the draft NUREGs. You may submit comments by any of the following methods (unless this document describes a different method for submitting comments on a specific subject):

• Federal Rulemaking Web site: Go to: http://www.regulations.gov and search for Docket ID NRC-2009-0096 for information about the proposed rule and Docket ID: NRC-2013-0195 for information about the draft NUREGs. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly-available documents online in the NRC Library at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to: pdr.resource@nrc.gov.

• NRC's PDR: You may examine and purchase copies of public documents at the NRC's PDR, Room O1-F21, One White Flint North, 11555 Rockville Pike, Rockville, Maryland 20852.

FOR FURTHER INFORMATION CONTACT: Thomas Young, Office of Federal and State Materials and Environmental Management Programs, U.S. Nuclear Regulatory Commission, Washington, DC 20555-0001; telephone: 301-415-5795; email: Thomas.Young@nrc.gov.

I. Background

On November 8, 2013 (78 FR 67225; NRC-2009-0096), the NRC published for public comment a proposed rule to amend its regulations for MC&A of SNM. Also on November 8, 2013 (78 FR 67224; NRC-2013-0195), the NRC published for public comment the proposed guidance documents that discuss acceptable methods that licensees may use to prepare and implement their MC&A plans and how the NRC will review and inspect these plans. The public comment period for the proposed rule and the proposed guidance would have closed on February 18, 2014. On November 29, 2013 (78 FR 71532), the NRC published the notice for the first public meeting that would have been held on December 10, 2013, for the proposed rule and proposed guidance. Due to inclement weather, the first public meeting scheduled for December 10, 2013, was cancelled. On December 30, 2013 (78 FR 79328), the NRC published the notice rescheduling the first public meeting to January 9, 2014, and extending the public comment period until March 10, 2014. The NRC held the first public meeting on January 9, 2014, from 10 a.m. to 5 p.m. At the end of the meeting, the NRC received a request to continue the discussions at a second public meeting, and the NRC agreed.

The goal of this rulemaking is to revise and consolidate the MC&A requirements in order to update, clarify, and strengthen them. The proposed amendments add new requirements that would apply to NRC licensees who are authorized to possess SNM in a quantity greater than 350 grams.

II. Public Meeting

To facilitate the understanding of the public and other stakeholders of these issues and the submission of comments, the NRC staff plans to hold the second public meeting on February 5, 2014, from 10 a.m. to 5 p.m. (EST), in Rockville, Maryland. The meeting notice can be accessed through the NRC's public Web site at: http://meetings.nrc.gov/pmns/mtg. The final agenda and the meeting materials will be posted prior to the meeting at this Web site.

In addition, members of the public may also participate in the meeting via teleconference or Webinar. Information for the teleconference and Webinar is available in the meeting notice, which can be accessed through the NRC's public Web site at: http://meetings.nrc.gov/pmns/mtg. Participants must register at the Internet link in the meeting notice to participate in the Webinar.

Dated at Rockville, Maryland, this 24th day of January, 2014.
For the Nuclear Regulatory Commission.
Christopher G. Miller,
Director, Division of Intergovernmental Liaison and Rulemaking, Office of Federal and State Materials and Environmental Management Programs.

[FR Doc. 2014-01922 Filed 1-29-14; 8:45 am]

BILLING CODE 7590-01-P